DEPARTMENT OF COMMERCE

International Trade Administration

[C-549-852]

Crystalline Silicon Photovoltaic Cells, Whether or Not Assembled Into Modules, From Thailand: Final Affirmative Countervailing Duty Determination and Final Affirmative Determination of Critical Circumstances

AGENCY: Enforcement and Compliance, International Trade Administration, Department of Commerce.

SUMMARY: The U.S. Department of Commerce (Commerce) determines that countervailable subsidies are being provided to producers and exporters of crystalline silicon photovoltaic cells, whether or not assembled into modules (solar cells), from Thailand. The period of investigation (POI) is January 1, 2023, through December 31, 2023.

DATES: Applicable April 25, 2025.

FOR FURTHER INFORMATION CONTACT: Shane Subler or Henry Wolfe, AD/CVD Operations, Office VIII, Enforcement and Compliance, International Trade Administration, U.S. Department of Commerce, 1401 Constitution Avenue NW, Washington, DC 20230; telephone: (202) 482-6241, and (202) 482-0574, respectively.

SUPPLEMENTARY INFORMATION:

Background

On October 4, 2024, Commerce published the Preliminary Determination in the Federal Register, invited interested parties to comment on the Preliminary Determination, and aligned this countervailing duty investigation with the final determination in the less-than-fair value investigation of crystalline silicon photovoltaic cells, whether or not assembled into modules, from Thailand, in accordance with section 705(a)(1) of the Tariff Act of 1930, as amended (the Act), and 19 CFR 351.210(b)(4).¹ On January 7, 2025, Commerce released its Post-Preliminary Analysis.² For a complete discussion of the events that followed the Preliminary Determination, see the Issues and Decision Memorandum.³ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

¹ See Crystalline Silicon Photovoltaic Cells, Whether or Not Assembled into Modules, from Thailand: Preliminary Affirmative Countervailing Duty Determination, Preliminary Affirmative Critical Circumstances Determination, in Part, and Alignment of Final Determination with Final Antidumping Duty Determination, 89 FR 80877 (October 4, 2024) (Preliminary Determination), and accompanying Preliminary Decision Memorandum (PDM).

² See Memorandum, “Decision Memorandum for the Post-Preliminary Analysis in the Countervailing Duty Investigation of Crystalline Silicon Photovoltaic Cells, Whether or Not Assembled into Modules, from Thailand,” dated January 7, 2025.

³ See Memorandum, “Issues and Decision Memorandum for the Final Affirmative Determination of the Countervailing Duty Investigation of Crystalline Silicon Photovoltaic Cells, Whether or Not Assembled into Modules, from Thailand,” dated concurrently with, and hereby adopted by, this notice (Issues and Decision Memorandum).

Scope of the Investigation

The products covered by this investigation are solar cells from Thailand. For a complete description of the scope of this investigation, see Appendix I.

Scope Comments

In Commerce's Preliminary Scope Memorandum, we set aside a period of time for parties to raise issues regarding product coverage (i.e., scope) in scope-specific case briefs or other written comments on scope issues.⁴ Between December 27, 2024, and January 3, 2025, Commerce received a scope case brief and a rebuttal brief from JA Solar USA Inc. and JA Solar Vietnam Company Limited (collectively, JA Solar) and the American Alliance for Solar Manufacturing Trade Committee (the petitioner), respectively.⁵ For a summary of the product coverage comments and rebuttal responses submitted to the record for this final determination, and accompanying discussion and analysis of all comments timely received, see the Final Scope Memorandum.⁶ In the Final Scope Memorandum, Commerce determined that it is modifying the scope language as it appeared in the Initiation Notice. See Appendix I.

⁴ See Memorandum, “Crystalline Silicon Photovoltaic Cells, Whether or Not Assembled into Modules, from Cambodia, Malaysia, and Thailand: Preliminary Scope Decision Memorandum,” dated November 27, 2024. (Preliminary Scope Decision Memorandum).

⁵ See JA Solar's Letter, “Scope Case Brief,” dated December 27, 2024; see also Petitioner's Letter, “Petitioner's Rebuttal Scope Brief,” dated January 3, 2025.

⁶ See Memorandum, “Crystalline Silicon Photovoltaic Cells, Whether or Not Assembled into Modules, from Cambodia, Malaysia, Thailand, and the Socialist Republic of Vietnam: Final Scope Decision Memorandum,” dated concurrently with this notice (Final Scope Decision Memorandum).

Verification

As provided in section 782(i) of the Act, in January 2025, Commerce conducted verification of the subsidy information reported by the Royal Thai Government (RTG) and Trina Solar Science & Technology (Thailand) Ltd. (TTL). We also verified information in the quantity and value questionnaire responses submitted by Runergy PV Technology (Thailand) Co. Ltd. (Runergy) and Talesun Technologies (Thailand) Co., Ltd. (Talesun). We used standard verification procedures, including an examination of relevant accounting records and original source documents provided by the RTG, TTL, Runergy, and Talesun.

Analysis of Subsidy Programs and Comments Received

The subsidy programs under investigation and the issues raised in the case and rebuttal briefs that were submitted by interested parties in this investigation are discussed in the Issues and Decision Memorandum. For a list of the issues raised by interested parties and addressed in the Issues and Decision Memorandum, see Appendix II.

Final Affirmative Determination of Critical Circumstances

Commerce preliminarily determined, in accordance with section 703(e)(1) of the Act and 19 CFR 351.206(c)(1), that critical circumstances did not exist with respect to imports of solar cells exported by TTL, but that critical circumstances did exist with respect to imports of solar cells produced and/or exported by Sunshine Electrical Energy (Sunshine Electrical), Taihua New Energy (Thailand) Co. Ltd. (Taihua New Energy), and all other producers and/or exporters.⁷

⁷ See Preliminary Determination PDM at 38-41.

For the final determination, pursuant to section 705(a)(2) of the Act and 19 CFR 351.206, we continue to find that critical circumstances exist for Sunshine Electrical and Taihua New Energy. Additionally, we continue to find that critical circumstances exist for all other producers and/or exporters not individually examined, and we determine that critical circumstances exist for TTL. For a full description of the methodology and results of Commerce's critical circumstances analysis, see the Issues and Decision Memorandum.

Methodology

Commerce conducted this investigation in accordance with section 701 of the Act. For each of the subsidy programs found to be countervailable, Commerce determines that there is a subsidy, i.e., a financial contribution by an “authority” that gives rise to a benefit to the recipient, and that the subsidy is specific.⁸ For a full description of the methodology underlying our final determination, see the Issues and Decision Memorandum.

⁸ See sections 771(5)(B) and (D) of the Act regarding financial contribution; see also section 771(5)(E) of the Act regarding benefit; and section 771(5A) of the Act regarding specificity.

In making this final determination, Commerce relied, in part, on facts otherwise available, including with an adverse inference, pursuant to sections 776(a) and (b) of the Act. For a full discussion of our application of adverse facts available (AFA), see the Issues and Decision Memorandum at the section entitled “Uses of Facts Available and Application of Adverse Inferences.”

Changes Since the Preliminary Determination

Based on our review and analysis of the information at verification and comments received from interested parties, we made changes to the subsidy rate calculations for TTL, Sunshine Electrical, Taihua New Energy, and all other producers and/or exporters, including the addition of subsidy programs included in the Post-Preliminary Analysis. For a discussion of these changes, see the Issues and Decision Memorandum.

All-Others Rate

In accordance with section 705(c)(1)(B)(i) of the Act, we calculated an individual estimated countervailable subsidy rate for the mandatory respondent, TTL. Section 705(c)(5)(A)(i) of the Act states that, for companies not individually investigated, Commerce will determine an all-others rate equal to the weighted-average countervailable subsidy rates established for exporters and/or producers individually investigated, excluding any zero and de minimis countervailable subsidy rates, and any rates determined entirely under section 776 of the Act. For this final determination, TTL's subsidy rate is not zero, de minimis, or determined entirely under section 776 of the Act. Consequently, we have assigned the subsidy rate calculated for TTL as the rate for all other producers and/or exporters.

Final Determination

Commerce determines that the following estimated countervailable subsidy rates exist for the period January 1, 2023, through December 31, 2023:

Company | Subsidy rate (percent ad valorem)
Sunshine Electrical Energy | * 799.55
Taihua New Energy (Thailand) Co. Ltd | * 799.55
Trina Solar Science & Technology (Thailand) Ltd | 263.74
All Others | 263.74
* Rate based on facts available with adverse inferences.

Disclosure

Commerce intends to disclose the calculations performed to interested parties in this final determination within five days of any public announcement or, if there is no public announcement, within five days of the date of the publication of the notice in the Federal Register, in accordance with 19 CFR 351.224(b).

Suspension of Liquidation

Because we preliminarily determined that the countervailing duty (CVD) rate for TTL was de minimis, we did not instruct U.S. Customs and Border Protection (CBP) to suspend entries of subject merchandise, as described in Appendix I to this notice, from TTL.⁹ Section 705(c)(4)(C) of the Act provides that in the event of a final affirmative determination of critical circumstances, when the preliminary determination under section 703(b) of the Act was negative, any suspension of liquidation shall apply to unliquidated entries of subject merchandise entered, or withdrawn from warehouse, for consumption on or after the date which is 90 days before the date on which the suspension of liquidation was first ordered. Therefore, in accordance with section 705(c)(4)(C) of the Act, we will now direct CBP to suspend liquidation of all imports of the subject merchandise from TTL entered, or withdrawn from warehouse, for consumption on or after 90 days prior to the date of publication of this notice in the Federal Register, and to require the posting of a cash deposit for such entries of merchandise.

⁹ See Preliminary Determination, 89 FR 80875.

We preliminarily determined that critical circumstances existed for imports of subject merchandise produced and/or exported by Sunshine Electrical, Taihua New Energy, and all other producers and/or exporters not individually examined.¹⁰ With respect to Sunshine Electrical, Taihua New Energy, and all other producers and/or exporters not individually examined, as a result of our Preliminary Determination and pursuant to sections 703(d)(1)(B) and (d)(2) of the Act, we directed CBP to suspend liquidation of entries of subject merchandise, as described in the scope of the investigation section, that were entered, or withdrawn from warehouse, for consumption on or after July 6, 2024, which was 90 days prior to the date of the publication of the Preliminary Determination in the Federal Register.¹¹ Pursuant to 19 CFR 351.205(d), we instructed CBP to require a cash deposit equal to the rates indicated in the Preliminary Determination.¹² In accordance with section 703(d) of the Act, on January 31, 2025, we instructed CBP to discontinue the suspension of liquidation of all entries of subject merchandise entered or withdrawn from warehouse on or after February 1, 2025. For this final determination, as explained in the “Final Affirmative Determination of Critical Circumstances” section above, we continue to determine that critical circumstances exist for Sunshine Electrical and Taihua New Energy. Accordingly, we will instruct CBP to continue to suspend liquidation of all entries of subject merchandise from Sunshine Electrical and Taihua New Energy entered, or withdrawn from warehouse, for consumption on or after July 6, 2024, which is 90 days prior to the date of publication of the Preliminary Determination, through January 31, 2025.

¹⁰ Id.

¹¹ Id.

¹² Id.

If the U.S. International Trade Commission (ITC) issues a final affirmative injury determination, we will issue a CVD order, reinstate the suspension of liquidation under section 706(a) of the Act with respect to Sunshine Electrical, Taihua New Energy, and all other producer and/or exporters not individually examined, and require a cash deposit of estimated countervailing duties for entries of subject merchandise in the amounts indicated in the “Final Determination” section above. Pursuant to section 705(c)(2) of the Act, if the ITC determines that material injury, or threat of material injury, does not exist, this proceeding will be terminated, and all estimated duties deposited or securities posted as a result of the suspension of liquidation will be refunded or cancelled.

ITC Notification

In accordance with section 705(d) of the Act, Commerce will notify the ITC of its final affirmative determination that countervailable subsidies are being provided to producers and exporters of solar cells from Thailand. Because Commerce's final determination is affirmative, in accordance with section 705(b) of the Act, the ITC will make its final determination as to whether the domestic industry in the United States is materially injured, or threatened with material injury, by reason of imports or sales (or the likelihood of sales) for importation of solar cells from Thailand no later than 45 days after this final determination. If the ITC determines that material injury or threat of material injury does not exist, this proceeding will be terminated and all cash deposits will be refunded. If the ITC determines that such injury does exist, Commerce will issue a countervailing duty order directing CBP to assess, upon further instruction by Commerce, countervailing duties on all imports of the subject merchandise that are entered, or withdrawn, for consumption on or after the effective date of the suspension of liquidation, as discussed above in the “Suspension of Liquidation” section.

Administrative Protective Order (APO)

This notice serves as the final reminder to parties subject to an APO of their responsibility concerning the return or destruction of proprietary information disclosed under APO in accordance with 19 CFR 351.305(a)(3). Timely written notification of the return, or destruction, of APO materials, or conversion to judicial protective order, is hereby requested. Failure to comply with the regulations and the terms of an APO is a violation subject to sanction.

Notification to Interested Parties

This determination is issued and published in accordance with sections 705(d) and 777(i) of the Act, and 19 CFR 351.210(c).

Dated: April 18, 2025.
Christopher Abbott,
Deputy Assistant Secretary for Policy and Negotiations, performing the non-exclusive functions and duties of the Assistant Secretary for Enforcement and Compliance.

Appendix I

Scope of the Investigation

The merchandise covered by this investigation is crystalline silicon photovoltaic cells, and modules, laminates, and panels, consisting of crystalline silicon photovoltaic cells, whether or not partially or fully assembled into other products, including, but not limited to, modules, laminates, panels and building integrated materials.

This investigation covers crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Merchandise under consideration may be described at the time of importation as parts for final finished products that are assembled after importation, including, but not limited to, modules, laminates, panels, building-integrated modules, building-integrated panels, or other finished goods kits. Such parts that otherwise meet the definition of merchandise under consideration are included in the scope of the investigations.

Excluded from the scope of the investigation are thin film photovoltaic products produced from amorphous silicon (a-Si), cadmium telluride (CdTe), or copper indium gallium selenide (CIGS).

Also excluded from the scope of the investigation are crystalline silicon photovoltaic cells, not exceeding 10,000 mm² in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Additionally, excluded from the scope of the investigation are panels with surface area from 3,450 mm² to 33,782 mm² with one black wire and one red wire (each of type 22 AWG or 24 AWG not more than 206 mm in length when measured from panel extrusion), and not exceeding 2.9 volts, 1.1 amps, and 3.19 watts. For the purposes of this exclusion, no panel shall contain an internal battery or external computer peripheral ports.

Also excluded from the scope of the investigation are:

1. Off grid CSPV panels in rigid form with a glass cover, with the following characteristics: (A) a total power output of 100 watts or less per panel; (B) a maximum surface area of 8,000 cm² per panel; (C) do not include a built-in inverter; (D) must include a permanently connected wire that terminates in either an 8 mm male barrel connector, or a two-port rectangular connector with two pins in square housings of different colors; (E) must include visible parallel grid collector metallic wire lines every 1-4 millimeters across each solar cell; and (F) must be in individual retail packaging (for purposes of this provision, retail packaging typically includes graphics, the product name, its description and/or features, and foam for transport); and

2. Off grid CSPV panels without a glass cover, with the following characteristics: (A) a total power output of 100 watts or less per panel; (B) a maximum surface area of 8,000 cm² per panel; (C) do not include a built-in inverter; (D) must include visible parallel grid collector metallic wire lines every 1-4 millimeters across each solar cell; and (E) each panel is (1) permanently integrated into a consumer good; (2) encased in a laminated material without stitching, or (3) has all of the following characteristics: (i) the panel is encased in sewn fabric with visible stitching, (ii) includes a mesh zippered storage pocket, and (iii) includes a permanently attached wire that terminates in a female USB-A connector.

In addition, the following CSPV panels are excluded from the scope of the investigation: off-grid CSPV panels in rigid form with a glass cover, with each of the following physical characteristics, whether or not assembled into a fully completed off-grid hydropanel whose function is conversion of water vapor into liquid water: (A) a total power output of no more than 80 watts per panel; (B) a surface area of less than 5,000 square centimeters (cm²) per panel; (C) do not include a built-in inverter; (D) do not have a frame around the edges of the panel; (E) include a clear glass back panel; and (F) must include a permanently connected wire that terminates in a twoport rectangular connector.

Additionally excluded from the scope of this investigation are off-grid small portable crystalline silicon photovoltaic panels, with or without a glass cover, with the following characteristics: (1) a total power output of 200 watts or less per panel; (2) a maximum surface area of 16,000 cm² per panel; (3) no built-in inverter; (4) an integrated handle or a handle attached to the package for ease of carry; (5) one or more integrated kickstands for easy installation or angle adjustment; and (6) a wire of not less than 3 meters either permanently connected or attached to the package that terminates in an 8 mm diameter male barrel connector.

Also excluded from the scope of this investigation are off-grid crystalline silicon photovoltaic panels in rigid form with a glass cover, with each of the following physical characteristics, whether or not assembled into a fully completed off-grid hydropanel whose function is conversion of water vapor into liquid water: (A) a total power output of no more than 180 watts per panel at 155 degrees Celsius; (B) a surface area of less than 16,000 square centimeters (cm²) per panel; (C) include a keep-out area of approximately 1,200 cm² around the edges of the panel that does not contain solar cells; (D) do not include a built-in inverter; (E) do not have a frame around the edges of the panel; (F) include a clear glass back panel; (G) must include a permanently connected wire that terminates in a two-port rounded rectangular, sealed connector; (H) include a thermistor installed into the permanently connected wire before the twoport connector; and (I) include exposed positive and negative terminals at opposite ends of the panel, not enclosed in a junction box.

Further excluded from the scope of the investigation are:

1. Off grid rigid CSPV panels with a glass cover, with the following characteristics: (A) a total power output of 200 watts or less per panel, (B) a maximum surface area of 10,500 cm² per panel, (C) do not include a built-in inverter, (D) must include a permanently connected wire that terminates in waterproof connector with a cylindrical positive electrode and a rectangular negative electrode with the positive and negative electrodes having an interlocking structure, (E) must include visible parallel grid collector metallic wire lines every 1-4 millimeters across each solar cell, and (F) must be in individual retail packaging (for purposes of this provision, retail packaging typically includes graphics, the product name, its description and/or features); and

2. Off-grid small portable crystalline silicon photovoltaic panels, with or without a glass cover, with the following characteristics: (A) a total power output of 200 watts or less per panel, (B) a maximum surface area of 16,000 cm² per panel, (C) no built-in inverter, (D) an integrated handle or a handle attached to the package for ease of carry, (E) one or more integrated kickstands for easy installation or angle adjustment, and (F) a wire either permanently connected or attached to the package terminates in waterproof connector with a cylindrical positive electrode and a rectangular negative electrode with the positive and negative electrodes having an interlocking structure.

Also excluded from the scope of the investigation are:

1. Off grid rigid CSPV panels with a glass cover, with the following characteristics: (A) a total power output of 200 watts or less per panel, (B) a maximum surface area of 10,500 cm² per panel, (C) do not include a built-in inverter, (D) must include a permanently connected wire that terminates in waterproof connector with a cylindrical positive electrode and a rectangular negative electrode with the positive and negative electrodes having an interlocking structure, (E) must include visible parallel grid collector metallic wire lines every 1-4 millimeters across each solar cell, and (F) must be in individual retail packaging (for purposes of this provision, retail packaging typically includes graphics, the product name, its description and/or features); and

2. Small off-grid panels with glass cover, with the following characteristics: (A) surface area from 3,450 mm² to 33,782 mm², (B) with one black wire and one red wire (each of type 22AWG or 28 AWG not more than 350 mm in length when measured from panel extrusion), (C) not exceeding 10 volts, (D) not exceeding 1.1 amps, (E) not exceeding 6 watts, and (F) for the purposes of this exclusion, no panel shall contain an internal battery or external computer peripheral ports.

Additionally excluded from the scope of the investigation are:

1. Off grid rigid CSPV panels with a glass cover, with the following characteristics: (A) a total power output of 175 watts or less per panel, (B) a maximum surface area of 9,000 cm² per panel, (C) do not include a built-in inverter, (D) must include a permanently connected wire that terminates in waterproof connector with a cylindrical positive electrode and a rectangular negative electrode with the positive and negative electrodes having an interlocking structure; (E) must include visible parallel grid collector metallic wire lines every 1-4 millimeters across each solar cell, and (F) must be in individual retail packaging (for purposes of this provision, retail packaging typically includes graphics, the product name, its description and/or features); and

2. Off grid CSPV panels without a glass cover, with the following characteristics, (A) a total power output of 220 watts or less per panel, (B) a maximum surface area of 16,000 cm² per panel, (C) do not include a built-in inverter, (D) must include visible parallel grid collector metallic wire lines every 1-4 millimeters across each solar cell, and (E) each panel is encased in a laminated material without stitching.

Also excluded from the scope of this investigation are off-grid CSPV panels in rigid form, with or without a glass cover, permanently attached to an aluminum extrusion that is an integral component of an automation device that controls natural light, whether or not assembled into a fully completed automation device that controls natural light, with the following characteristics:

1. a total power output of 20 watts or less per panel;

2. a maximum surface area of 1,000 cm² per panel;

3. does not include a built-in inverter for powering third party devices.

Modules, laminates, and panels produced in a third-country from cells produced in a subject country are covered by the investigations; however, modules, laminates, and panels produced in a subject country from cells produced in a third-country are not covered by the investigations.

Also excluded from the scope of this investigation are all products covered by the scope of the antidumping and countervailing duty orders on Crystalline Silicon Photovoltaic Cells, Whether or Not Assembled into Modules, from the People's Republic of China: Amended Final Determination of Sales at Less Than Fair Value, and Antidumping Duty Order, 77 FR 73018 (December 7, 2012); and Crystalline Silicon Photovoltaic Cells, Whether or Not Assembled into Modules, from the People's Republic of China: Countervailing Duty Order, 77 FR 73017 (December 7, 2012).

Merchandise covered by the investigation is currently classified in the Harmonized Tariff System of the United States (HTSUS) under subheadings 8541.42.0010 and 8541.43.0010. Imports of the subject merchandise may enter under HTSUS subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, and 8507.20.8091. These HTSUS subheadings are provided for convenience and customs purposes; the written description of the scope of the investigations is dispositive.

Appendix II

List of Topics Discussed in the Issues and Decision Memorandum

I. Summary

II. Background

III. Final Critical Circumstances Determination

IV. Changes Since the Preliminary Determination

V. Subsidies Valuation Information

VI. Use of Facts Otherwise Available and Application of Adverse Inferences

VII. Benchmarks for Measuring the Adequacy of Remuneration

VIII. Analysis of Programs

IX. Discussion of the Issues

Comment 1: Whether Commerce Should Reach an Affirmative Determination of Critical Circumstances

Comment 2: Whether Commerce Erred in Its Calculation of the “All Others” Rate

Comment 3: Whether Commerce Has the Legal Authority Under the World Trade Organization (WTO) Rules and U.S. Law to Investigate Transnational Subsidies

Comment 4: Policy Lending from Chinese Banks for Belt and Road Initiative (BRI) Capacity Cooperation Projects

Comment 5: Substantial Evidence for the Cross-Border Provision of Chinese Polysilicon, Silicon Wafer, Silver Paste, and Solar Glass for Less Than Adequate Remuneration (LTAR)

Comment 6: Specificity for the Cross-Border Provision of Chinese Origin Polysilicon, Silicon Wafer, Silver Paste, and Solar Glass for LTAR

Comment 7: Whether Commerce Should Use Tier Two Benchmarks to Measure the Benefit Provided by the Cross-Border Provision of Chinese Silicon Wafers

Comment 8: Whether Commerce Should Use Tier Two Benchmarks to Measure the Benefit Provided by the Cross-Border Provision of Chinese Solar Glass

Comment 9: Whether Commerce Should Use Tier Two Benchmarks to Measure the Benefit Provided by the Cross-Border Provision of Chinese Silver Paste

Comment 10: Whether Commerce Should Apply Adverse Facts Available (AFA) or Otherwise Countervail Short-Term Loans to TTL

Comment 11: Whether Commerce Should Make Downward Adjustments to TTL's Reported Purchase Prices for Silicon Wafers and Solar Glass

Comment 12: Whether Commerce's Determination That Trina Solar Co., Ltd. (TCZ) and Trina Solar (Suqian) Silicon Materials Co., Ltd. (TSM(SQ)) Are “Authorities” Is Supported by the Record Evidence

Comment 13: Whether Commerce Made an Error in Its Calculation of the Benefit Provided by the Royal Thai Government's (RTG's) Provision of Electricity for LTAR

Comment 14: Whether the Provision of Electricity for LTAR is Countervailable

Comment 15: Whether Commerce Should Have Selected an Additional Mandatory Respondent

Comment 16: Whether Commerce Should Apply AFA to Taihua New Energy (Thailand) Co. Ltd. (Taihua New Energy)

Comment 17: Whether Commerce Should Initiate an Investigation Into Whether Producers in Malaysia Benefited From the Cross-Border Provision of Silicon Wafers for LTAR

X. Recommendation

[FR Doc. 2025-07138 Filed 4-24-25; 8:45 am]

BILLING CODE 3510-DS-P